DEPARTMENT OF AGRICULTURE

Natural Resources Conservation Service

Notice of Proposed Changes in the National Handbook of Conservation Practices

AGENCY: Natural Resources Conservation Service, USDA.

ACTION: Notice and request for comments.

SUMMARY: Notice is hereby given of the intention of the Natural Resources Conservation Service (NRCS) to issue a series of new or revised conservation practice standards in its National Handbook of Conservation Practices. These standards include Access Road, Diversion, Drainage Water Management, Fishpond Management, Irrigation Land Leveling, Herbaceous Wind Barriers, Pond Sealing or Lining—Bentonite Sealant, Pond Sealing or Lining—Soil dispersant, Roof Runoff Structure, and Surface Roughening. The standards are used to convey national guidance when developing the Field Office Technical Guide policies. NRCS State Conservationists and Directors for the Pacific Basin and Caribbean areas who choose to adopt these practices for use within their States/areas will incorporate them into Section IV of their Field Office Technical Guide. These practices may be used in resource management systems that treat highly erodible land or on land determined to be wetland.

EFFECTIVE DATES: Comments will be received until on or before August 6, 2001. This series of new or revised conservation practice standards will be adopted after the close of the 60-day period.

FOR FURTHER INFORMATION CONTACT: Single copies of these standards are available from NRCS-CED in Washington, DC. Submit individual inquiries and return any comments in writing to William Hughey, National Agricultural Engineer, Natural Resources Conservation Service, Post Office Box 2890, Room 6139-S, Washington, DC 20013-2890; telephone: (202) 720-5023. The standards are also available from, and can be downloaded via the Internet at: http://www.ftw.nrcs.usda.gov/practice_stds.html.

SUPPLEMENTARY INFORMATION: Section 343 of the Federal Agriculture Improvement and Reform Act of 1996 requires NRCS to make available for public review and comment proposed revisions to conservation practice standards used to carry out the highly erodible land and wetland provisions of the law. For the next 60 days, NRCS will receive comments relative to the proposed changes. Following that period, a determination will be made by NRCS regarding the disposition of those comments, and a final determination of change will be made.

Signed in Washington, DC, on April 20, 2001.
Pearlie S. Reed,
Chief, Natural Resources Conservation Service.

[FR Doc. 01-14149 Filed 6-5-01; 8:45 am]

BILLING CODE 3410-16-U